DEPARTMENT OF THE INTERIOR

National Park Service

[NPS-WASO-NAGPRA-13720;PPWOCRADN0-PCU00RP14.R50000]

Notice of Intent To Repatriate Cultural Items: Colorado College, Colorado Springs, CO

AGENCY: National Park Service, Interior.

ACTION: Notice.

SUMMARY: The Colorado College, in consultation with the appropriate Indian tribes or Native Hawaiian organizations, has determined that the cultural items listed in this notice meet the definition of unassociated funerary objects. Lineal descendants or representatives of any Indian tribe or Native Hawaiian organization not identified in this notice that wish to claim these cultural items should submit a written request to the Colorado College. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Colorado College at the address in this notice by September 30, 2013.

ADDRESSES: Jermyn Davis, Chief of Staff, President's Office, Colorado College, 14 E. Cache La Poudre, Colorado Springs, CO 80903, telephone (719) 389-6201, email Davis@ColoradoCollege.edu.

SUPPLEMENTARY INFORMATION: Notice is here given in accordance with the Native American Graves Protection and Repatriation Act (NAGPRA), 25 U.S.C. 3005, of the intent to repatriate cultural items under the control of the Colorado College, Colorado Springs, CO, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

On an unknown date, two cultural items were removed from Morocco ruin in Goodyear, Maricopa County, AZ, by an unknown individual. On an unknown date, Charles E. Strausenback of Espanola, NM, donated the items to the Colorado College Museum. In the late 1960s, the museum was closed and these items were placed on long-term loan to the Fine Arts Center (formerly known as the Taylor Museum and the Colorado Springs Fine Arts Center). According to museum documentation, the site from which the items were removed is “Morrosco Ruins, 30 miles Southwest of Phoenix, Arizona.” According to the Tribal Historic Preservation Officer (THPO) at the Gila River Indian Community of the Gila River Indian Reservation, Arizona, no site by this name exists. However, there is a Morocco Ruin [AZ T:11:106 (Arizona State Museum)], which the THPO believes to be the site from which the cultural items were removed. Morocco Ruin is a Hohokam Classic period village with a probable pre-Classic period component. The two unassociated funerary objects are one ceramic cremation jar and one ceramic bowl, which served as a lid to the jar.

On an unknown date, one cultural item was removed from an unknown location in southwest Arizona by an unknown individual. On an unknown date, the item was acquired by the Colorado College Museum. In the late 1960s, the museum was closed and this item was placed on long-term loan to the Fine Arts Center (formerly known as the Taylor Museum and the Colorado Springs Fine Arts Center). The one unassociated funerary object is a Hohokam ceramic cremation vessel.

On June 26, 2013, the Gila River Indian Community of the Gila River Indian Reservation, Arizona, submitted a repatriation request for the three unassociated funerary objects on behalf of itself and the Ak Chin Indian Community of the Maricopa (Ak Chin) Indian Reservation, Arizona; Salt River Pima-Maricopa Indian Community of the Salt River Reservation, Arizona; and the Tohono O'odham Nation of Arizona (hereafter referred to as “The Four Southern Tribes of Arizona”), which have a close relationship of shared group identity that can be traced historically and prehistorically between the Four Southern Tribes of Arizona and the Huhugam. The term Hohokam is an English adaption of Huhugam and has become known in the larger society as an archeological culture.

Determinations Made by the Colorado College

Officials of the Colorado College have determined that:

• Pursuant to 25 U.S.C. 3001(3)(B), the three cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

Additional Requestors and Disposition

Lineal descendants or representatives of any Indian tribe or Native Hawaiian organization not identified in this notice that wish to claim these cultural items should submit a written request with information in support of the claim to Jermyn Davis, Chief of Staff, President's Office, Colorado College, 14 E. Cache La Poudre, Colorado Springs, CO 80903, telephone (719) 389-6201, email Davis@ColoradoCollege.edu, by September 30, 2013. After that date, if no additional claimants have come forward, transfer of control of the unassociated funerary objects to Gila River Indian Community of the Gila River Indian Reservation, Arizona, may proceed.

The Colorado College is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico, that this notice has been published.

Dated: August 6, 2013.
Sherry Hutt,
Manager, National NAGPRA Program.

[FR Doc. 2013-21261 Filed 8-29-13; 8:45 am]

BILLING CODE 4312-50-P